DEPARTMENT OF HEALTH AND HUMAN SERVICES

Centers for Disease Control and Prevention

National Scientific Panel for Immunization Measurement Standards, 2000: Meeting

Name: National Scientific Panel for Immunization Measurement Standards, 2000.

Time and Date: 8 a.m.-5 p.m., May 1, 2000.

Place: Atlanta Marriott Century Center, 2000 Century Boulevard, NE., Atlanta, Georgia 30345-3377.

Status: Open to the public, limited only by the space available.

Purpose: There are two systems for measuring immunization coverage that are widely used. The Health Plan Employer Data and Information Set (HEDIS) measures quality of health care delivered by managed care organizations (MCOs) and enables comparisons of performance among MCOs. The National Immunization Survey (NIS) is a population-based survey of immunization coverage, conducted by CDC to assess how well children are immunized in the US. The inclusion of different vaccines and different measurement criteria has made direct comparison inaccurate and difficult. The Panel will review scientific and programmatic issues concerning immunization coverage measurement.

Matters To Be Discussed: The agenda will include discussion on the impact of various measurement specifications for calculating immunization coverage levels using NIS and HEDIS; the potential impact of various definitions of up-to-date immunization status in the two systems of immunization coverage measurement varying: (1) Age at ascertainment, (2) spacing criteria, (3) number of doses, (4) vaccines in combination measures; presentation of results of analysis of NIS data and datasets used for HEDIS estimates; consideration other ways to estimate vaccine coverage.

Contact Person for More Information: Mehran S. Massoudi, Senior Staff Epidemiologist, Immunization Services Division, National Immunization Program, CDC,1600 Clifton Road, NE., m/s E52, Atlanta, Georgia 30333. Telephone 404/639-8209.

The Director, Management Analysis and Services office has been delegated the authority to sign Federal Register notices pertaining to announcements of meetings and other committee management activities for both the Centers for Disease Control and Prevention and the Agency for Toxic Substances and Disease Registry.

Dated: March 23, 2000.
John Burckhardt,
Acting Director, Management Analysis and Services Office, Centers for Disease Control and Prevention (CDC).

[FR Doc. 00-7815 Filed 3-29-00; 8:45 am]

BILLING CODE 4163-18-P